DEPARTMENT OF THE TREASURY

Office of Foreign Assets Control

Unblocking of Specially Designated Narcotics Traffickers Pursuant to Executive Order 12978

AGENCY: Office of Foreign Assets Control, Treasury.

ACTION: Notice.

SUMMARY: The Treasury Department's Office of Foreign Assets Control (“OFAC”) is publishing the names of 21 individuals whose property and interests in property have been unblocked pursuant to Executive Order 12978 of October 21, 1995, Blocking Assets and Prohibiting Transactions With Significant Narcotics Traffickers.

DATES: The unblocking and removal from the list of Specially Designated Narcotics Traffickers of 21 individuals identified in this notice whose property and interests in property were blocked pursuant to Executive Order 12978 of October 21, 1995, is effective on November 13, 2008.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: (202) 622-0077.

Background

On October 21, 1995, the President, invoking the authority, inter alia, of the International Emergency Economic Powers Act (50 U.S.C. 1701-1706), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to this order; and (3) persons determined by the Secretary of the Treasury, in consultation with the Attorney General and the Secretary of State, to be owned or controlled by, or to act for or on behalf of, persons designated pursuant to this Order.

On November 13, 2008, the Director of OFAC removed from the list of Specially Designated Narcotics Traffickers 21 individuals listed below, whose property and interests in property were blocked pursuant to the Order.

The listing of the unblocked individuals follows:

1. AGUAS LOZADA, Rafael, c/o COSMEPOP, Bogota, Colombia; c/o DROGAS LA REBAJA BOGOTA S.A., Bogota, Colombia; c/o LABORATORIOS BLAIMAR DE COLOMBIA S.A., Bogota, Colombia; DOB 6 Feb 1967; Cedula No. 11385426 (Colombia) (individual) [SDNT]

2. CHACON PACHON, Rodolfo, c/o DISTRIBUIDORA DE DROGAS CONDOR S.A., Bogota, Colombia; c/o COSMEPOP, Bogota, Colombia; DOB 23 Feb 1970; Cedula No. 79538033 (Colombia) (individual) [SDNT]

3. CUECA VILLARAGA, Miguel Antonio, c/o ADMACOOP, Bogota, Colombia; c/o FARMACOOP, Bogota, Colombia; c/o LABORATORIOS KRESSFOR DE COLOMBIA S.A., Bogota, Colombia; Cedula No. 11386978 (Colombia) (individual) [SDNT]

4. DUQUE MARTINEZ, Carmen Lucia, c/o COMEDICAMENTOS S.A., Bogota, Colombia; c/o GLAJAN S.A., Bogota, Colombia; c/o PATENTES MARCAS Y REGISTROS S.A., Bogota, Colombia; c/o FOGENSA S.A., Bogota, Colombia; DOB 16 Jul 1966; Cedula No. 51988916 (Colombia); Passport 51988916 (Colombia) (individual) [SDNT]

5. ESPITIA PERILLA, Ruben Nowerfaby, c/o ADMACOOP, Bogota, Colombia; c/o DROMARCA Y CIA. S.C.S., Bogota, Colombia; c/o LABORATORIOS KRESSFOR DE COLOMBIA S.A., Bogota, Colombia; Cedula No. 79280623 (Colombia) (individual) [SDNT]

6. FONSECA DELGADO, Luis Jairo, c/o DROCARD S.A., Bogota, Colombia; c/o FARMACOOP, Bogota, Colombia; c/o GENERICOS ESPECIALES S.A., Bogota, Colombia; DOB 12 Aug 1962; Cedula No. 19493765 (Colombia); Passport 19493765 (Colombia) (individual) [SDNT]

7. FRANCO BELTRAN, Luis Fernando, c/o DROCARD S.A., Bogota, Colombia; c/o FARMACOOP, Bogota, Colombia; DOB 12 Aug 1953; Cedula No. 230809 (Colombia); Passport 230809 (Colombia) (individual) [SDNT]

8. GONZALEZ ALARCON, Sandra Judith, c/o CODISA, Bogota, Colombia; c/o FARMACOOP, Bogota, Colombia; DOB 7 Jul 1970; Cedula No. 52551222 (Colombia); Passport 52551222 (Colombia) (individual) [SDNT]

9. JIMENEZ MARIN, William Edison, c/o CODISA, Bogota, Colombia; c/o ESPIBENA S.A., Quito, Ecuador; c/o LABORATORIOS KRESSFOR DE COLOMBIA S.A., Bogota, Colombia; Cedula No. 19415821 (Colombia); Passport 19415821 (Colombia); RUC # 1720269099 (Ecuador) (individual) [SDNT]

10. LARA SANCHEZ, Giovanni Mauricio, c/o BONOMERCAD S.A., Bogota, Colombia; c/o DECAFARMA S.A., Bogota, Colombia; c/o FARMACOOP, Bogota, Colombia; c/o INTERFARMA S.A., San Jose, Costa Rica; c/o JOMAGA DE COSTA RICA S.A., San Jose, Costa Rica; c/o PATENTES MARCAS Y REGISTROS S.A., Bogota, Colombia; c/o PENTACOOP, Bogota, Colombia; DOB 20 Jan 1971; Cedula No. 79504253 (Colombia); Passport 79504253 (Colombia) (individual) [SDNT]

11. MEJIA ARISTIZABAL, Carlos Alberto, c/o ADMACOOP, Bogota, Colombia; c/o CODISA, Bogota, Colombia; c/o DROCARD S.A., Bogota, Colombia; DOB 17 Jun 1957; Cedula No. 10162459 (Colombia); Passport 10162459 (Colombia) (individual) [SDNT]

12. NEGRETE AYALA, Nubis del Carmen, c/o FARMA 3.000 LIMITADA, Barranquilla, Colombia; DOB 15 Jan 1966; Cedula No. 26174837 (Colombia); Passport 26174837 (Colombia) (individual) [SDNT]

13. PRIETO, Dioselina (a.k.a. PRIETO, Diocelina), Carrera 12 No. 2-81, Bogota, Colombia; c/o COMEDICAMENTOS S.A., Bogota, Colombia; c/o DISTRIBUIDORA AGROPECUARIA COLOMBIANA S.A., Cali, Colombia; c/o GLAJAN S.A., Bogota, Colombia; c/o INVERSIONES BOMBAY S.A., Bogota, Colombia; c/o FOGENSA S.A., Bogota, Colombia; c/o SHARVET S.A., Bogota, Colombia; DOB 3 Dec 1956; Cedula No. 41760201 (Colombia); Passport 41760201 (Colombia) (individual) [SDNT]

14. RIVEROS TRIANA, Raul, c/o COMEDICAMENTOS S.A., Bogota, Colombia; c/o DECAFARMA S.A., Bogota, Colombia; c/o FARMACOOP, Bogota, Colombia; c/o PATENTES MARCAS Y REGISTROS S.A., Bogota, Colombia; c/o SHARPER S.A., Bogota, Colombia; c/o BONOMERCAD S.A., Bogota, Colombia; c/o FOGENSA S.A., Bogota, Colombia; c/o GENERICOS ESPECIALES S.A., Bogota, Colombia; c/o INVERSIONES BOMBAY S.A., Bogota, Colombia; c/o SHARVET S.A., Bogota, Colombia; DOB 13 May 1951; Cedula No. 3252672 (Colombia); Passport 3252672 (Colombia) (individual) [SDNT]

15. ROMERO PENAGOS, Cesar Augusto, c/o CODISA, Bogota, Colombia; c/o FARMACOOP, Bogota, Colombia; DOB 20 Jan 1972; Cedula No. 791384496 (Colombia); Passport 791384496 (Colombia) (individual) [SDNT]

16. ROZO VARON, Luis Carlos, c/o LABORATORIOS GENERICOS VETERINARIOS, Bogota, Colombia; c/o BLANCO PHARMA S.A., Bogota, Colombia; c/o FARMATODO S.A., Bogota, Colombia; c/o LABORATORIOS KRESSFOR, Bogota, Colombia; DOB 11 Apr 1959; Cedula No. 5838525 (Colombia); Passport AF101921 (Colombia) (individual) [SDNT]

17. SANABRIA NINO, Alexander, c/o CAJA SOLIDARIA, Bogota, Colombia; c/o COSMEPOP, Bogota, Colombia; c/o SERVICIOS FUTURA LIMITADA, Bogota, Colombia; c/o SERVICIOS LOGISTICOS Y MARKETING LTDA., Bogota, Colombia; DOB 12 Jul 1967; Cedula No. 79420501 (Colombia); Passport 79420501 (Colombia) (individual) [SDNT]

18. SOSSA RIOS, Diego Alberto (a.k.a. SOSA RIOS, Diego Alberto), Calle 46 No. 13-56 of. 111, Bogota, Colombia; c/o BONOMERCAD S.A., Bogota, Colombia; c/o DECAFARMA S.A., Bogota, Colombia; c/o FARMACOOP, Bogota, Colombia; c/o PENTAPHARMA DE COLOMBIA S.A., Bogota, Colombia; c/o SHARPER S.A., Bogota, Colombia; c/o COMEDICAMENTOS S.A., Bogota, Colombia; c/o GLAJAN S.A., Bogota, Colombia; c/o DISTRIBUIDORA AGROPECUARIA COLOMBIANA S.A., Cali, Colombia; c/o INVERSIONES BOMBAY S.A., Bogota, Colombia; Cedula No. 71665932 (Colombia) (individual) [SDNT]

19. SOTO PACHECO, Armando, c/o FARMA 3.000 LIMITADA, Barranquilla, Colombia; DOB 21 Sep 1966; Cedula No. 10124018 (Colombia); Passport 10124018 (Colombia) (individual) [SDNT]

20. VALLEJO BAYONA, Diego, c/o ADMACOOP, Bogota, Colombia; c/o COMEDICAMENTOS S.A., Bogota, Colombia; c/o LABORATORIOS KRESSFOR DE COLOMBIA S.A., Bogota, Colombia; c/o LABORATORIOS PROFARMA LTDA., Bogota, Colombia; c/o MATERIAS PRIMAS Y SUMINISTROS S.A., Bogota, Colombia; Cedula No. 19285053 (Colombia); Passport 19285053 (Colombia) (individual) [SDNT]

21. VARGAS CANTOR, Horacio, c/o DROCARD S.A., Bogota, Colombia; c/o FARMACOOP, Bogota, Colombia; c/o FOGENSA S.A., Bogota, Colombia; c/o GENERICOS ESPECIALES S.A., Bogota, Colombia; c/o SHARVET S.A., Bogota, Colombia; DOB 30 Dec 1960; Cedula No. 79201297 (Colombia); Passport 79201297 (Colombia) (individual) [SDNT]

Dated: November 13, 2008.
Barbara C. Hammerle,
Acting Director, Office of Foreign Assets Control.

[FR Doc. E8-27649 Filed 11-19-08; 8:45 am]

BILLING CODE 4811-45-P